DEPARTMENT OF TRANSPORTATION

Great Lakes St. Lawrence Seaway Development Corporation

33 CFR Part 401

RIN 2135-AA53

Seaway Regulations and Rules: Periodic Update, Various Categories

AGENCY: Great Lakes St. Lawrence Seaway Development Corporation, DOT.

ACTION: Final rule.

SUMMARY: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories. These changes are to clarify existing requirements in the regulations.

DATES: This rule is effective on March 22, 2023.

ADDRESSES:

Docket: For access to the docket to read background documents or comments received, go to http://www.Regulations.gov; or in person at the Docket Management Facility; U.S. Department of Transportation, 1200 New Jersey Avenue SE, West Building Ground Floor, Room W12-140, Washington, DC 20590-001, between 9 a.m. and 5 p.m., Monday through Friday, except Federal holidays.

FOR FURTHER INFORMATION CONTACT: Carrie Mann Lavigne, Chief Counsel, Great Lakes St. Lawrence Seaway Development Corporation, 180 Andrews Street, Massena, New York 13662; (315) 764-3200.

SUPPLEMENTARY INFORMATION: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories. The changes update the following sections of the Regulations and Rules: Condition of Vessels, Seaway Navigation, Radio Communications, Dangerous Cargo, General. These changes are to clarify existing requirements in the regulations.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.Regulations.gov.

The joint regulations will become effective in Canada on March 22, 2023. For consistency, because these are joint regulations under international agreement, and to avoid confusion among users of the Seaway, the GLS finds that there is good cause to make the U.S. version of the amendments effective on the same date.

Regulatory Evaluation

This regulation involves a foreign affairs function of the United States and therefore, Executive Order 12866 does not apply and evaluation under the Department of Transportation's Regulatory Policies and Procedures is not required.

Regulatory Flexibility Act Determination

I certify that this regulation will not have a significant economic impact on a substantial number of small entities. The St. Lawrence Seaway Regulations and Rules primarily relate to commercial users of the Seaway, the vast majority of whom are foreign vessel operators. Therefore, any resulting costs will be borne mostly by foreign vessels.

Environmental Impact

This regulation does not require an environmental impact statement under the National Environmental Policy Act (49 U.S.C. 4321, et seq.) because it is not a major federal action significantly affecting the quality of the human environment.

Federalism

The Corporation has analyzed this rule under the principles and criteria in Executive Order 13132, dated August 4, 1999, and has determined that this proposal does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Great Lakes St. Lawrence Seaway Development Corporation is amending 33 CFR part 401 as follows:

PART 401—SEAWAY REGULATIONS AND RULES

Subpart A—Regulations

1. Amend § 401.7 by revising paragraph (a)(1) to read as follows:

§ 401.7 Fenders.

(a) * * *

(1) That are made of steel, are of a thickness not exceeding 15 cm, with well tapered ends, and are located along the hull, close to the main deck level; and

* * * * *

2. Revise § 401.8 to read as follows:

§ 401.8 Landing booms.

(a) Vessels of more than 50 m in overall length and a freeboard of 2m or more shall either be equipped with landing booms or make provisions for tie-up service at the approach walls.

(b) For vessels with landing booms:

(1) Vessel must be equipped with an adequate landing boom on each side;

(2) Landing booms must be in compliance with applicable regulations;

(3) Vessel's crews shall be adequately trained in the use of landing booms for the purpose of landing crew ashore.

(4) Vessel must have onboard for inspection the following documents:

(i) A copy of the test certificates for each of the landing booms from either a classification society or a third party, dated within 5 years;

(ii) Documents to demonstrate appropriate training;

(iii) Documented tests and maintenance records of landing boom equipment.

(c) Vessels not equipped with or not using landing booms shall make arrangements with a third party tie-up service provider for tie-up at Seaway Approach walls at the Canadian Locks prior to commencing transit of the Seaway.

3. Amend § 401.9 by revising paragraph (c) to read as follows:

§ 401.9 Radio telephone and navigation equipment.

* * * * *

(c) Gyro compass error greater than 2 degrees must be serviced prior to transiting the Seaway, if noted during a Seaway transit, it must be reported to the nearest Seaway station and the gyro compass must be serviced at first opportunity.

* * * * *

4. Amend § 401.14 by revising paragraph (a) to read as follows:

§ 401.14 Anchors, Anchor Marking Buoys.

(a) Every vessel shall have their anchors cleared and ready to be released prior to entering the Seaway.

* * * * *

5. Amend § 401.20 by revising paragraphs (b)(2), (b)(3), and (b)(6) through (8) to read as follows:

§ 401.20 Automatic Identification System.

* * * * *

(b) * * *

(2) International Telecommunication Union, ITU-R Recommendation M.1371-5: 2014, Technical Characteristics For A Universal Shipborne AIS Using Time Division Multiple Access In The VHF Maritime Mobile Band, as amended;

(3) International Electrotechnical Commission, IEC 61993-2 Ed.3, Maritime Navigation and Radio Communication Equipment and Systems—AIS—Part 2: Class A Shipborne Equipment of the Universal AIS—Operational and Performance Requirements, Methods of Test and Required Test Results, as amended;

* * * * *

(6) Computation of AIS position reports using a Satellite Based Augmentation System (SBAS); or

(7) The use of a temporary unit meeting the requirements of subparagraphs (b)(1) through (6) of this section is permissible; or

(8) For each vessel with LOA less than 30 meters, the use of portable AIS compatible with the requirements of subparagraphs (b)(1) through (3) and subparagraphs (5) and (6) of this section is permissible.

6. Amend § 401.28 by redesignating paragraph (d) as paragraph (e) and adding new paragraph (d) to read as follows:

§ 401.28 Speed limits.

* * * * *

(d) Every vessel passing a moored vessel or equipment working in a canal shall proceed at a speed that will not endanger the moored vessel, the moored equipment or the occupants of either.

* * * * *

7. Amend § 401.29 by adding paragraph (c)(1)(iv) and revising paragraphs (c)(2) introductory text and (c)(2)(iii) to read as follows:

§ 401.75 Maximum draft.

* * * * *

(c) * * *

(1) * * *

(iv) Vessels equipped with a bow thruster shall have it operational.

(2) The DIS Tool Display shall be located as close to the primary conning position and be visible and legible.

* * * * *

(iii) Any vessel intending to use the DIS for the first time must notify the Manager or the Corporation in writing at least 24 hours prior to commencement of its initial transit in the System with the DIS in order to arrange for appropriate testing for approval to use the DIS.

* * * * *

8. Amend § 401.40 by revising paragraph (d) to read as follows:

§ 401.40 Entering, exiting or position in lock.

* * * * *

(d) No vessel shall use thrusters when passing a lock gate or a Hands Free Mooring (HFM) unit.

* * * * *

9. Amend § 401.44 by revising paragraph (d) to read as follows:

§ 401.44 Mooring in locks.

* * * * *

(d) Vessels being moored by “Hands Free Mooring” system (HFM) or passing through a lock without the use of mooring lines shall have a minimum of one well rested crew member on deck during the lockage to assist the Bridge team.

* * * * *

10. Amend § 401.65 by adding paragraph (d) to read as follows:

§ 401.65 Communication—ports, docks and anchorages.

* * * * *

(d) Every vessel intending to conduct a dive operation at a dock, wharf or approach wall shall provide a 24-hour minimum notice of diving operations to the appropriate Seaway Traffic Control Center.

* * * * *

11. Amend § 401.68 by revising paragraph (c) to read as follows:

§ 401.68 Explosives permission letter.

* * * * *

(c) A written application for a Seaway Explosives Permission Letter certifying that the cargo is packed, marked and stowed in accordance with the Transportation of Dangerous Goods Regulations (Canada), the United States regulations under the Dangerous Cargo Act and the International Maritime Dangerous Goods Code may be made to The St. Lawrence Seaway Management Corporation, 202 Pitt Street, Cornwall, Ontario, K6J 3P7, or to the Great Lakes St. Lawrence Seaway Development Corporation, P.O. Box 520, Massena, New York, U.S.A., 13662.

* * * * *

12. Amend § 401.73 by revising paragraph (b) introductory text, redesignating paragraphs (b)(1) through (6) as paragraph (b)(1)(i) through (vi) and adding (b)(1) introductory text to read as follows:

§ 401.73 Cleaning tanks—hazardous cargo vessels.

* * * * *

(b) Hot Work Permission. Before any hot work, defined as any work that uses flame or that can produce a source of ignition, cutting or welding, is carried out by any vessel on any designated St. Lawrence Seaway Management Corporation (SLSMC) Approach walls or wharfs, a written request must be sent to the SLSMC, preferably 24 hours prior to the vessel's arrival on SLSMC Approach walls or wharfs. The hot work shall not commence until approval is obtained from a SLSMC Traffic Control Center.

(1) Permission is granted under the following conditions:

* * * * *

13. Amend § 401.90 by revising paragraph (a)(1) to read as follows:

§ 401.90 Boarding for inspections.

(a) * * *

(1) Examine the vessel, its equipment and cargo; and

* * * * *

Issued at Washington, DC, under authority delegated at 49 CFR part 1.101 Great Lakes St. Lawrence Seaway Development Corporation
Carrie Lavigne,
Chief Counsel.

[FR Doc. 2023-04503 Filed 3-7-23; 8:45 am]

BILLING CODE 4910-61-P